DEPARTMENT OF LABOR

Employment and Training Administration

[TA-W-51,626]

Avaya Communications, Westminster, Colorado; Notice of Termination of Investigation

Pursuant to section 221 of the Trade Act of 1974, as amended, an investigation was initiated on April 9, 2003, in response to a worker petition filed by a State Agency Representative on behalf of workers at Avaya Communications, Westminster, Colorado.

The State Agency Representative has withdrawn the petition; thus, further investigation would serve no purpose and the investigation under this petition has been terminated.

Signed at Washington, DC, this 14th day of July, 2003.
Linda G. Poole,
Certifying Officer, Division of Trade Adjustment Assistance.

[FR Doc. 03-18818 Filed 7-23-03; 8:45 am]

BILLING CODE 4510-30-P